NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 7, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Rural Development (N1-572-10-1, 2 items, 2 temporary items). Agency Web site records, including site management and non-unique Web content records.

2. Department of Defense, Defense Contract Management Agency (N1-558-10-10, 11 items, 11 temporary items). Contract management records, including pre-award surveys, contract files, cost control reviews, discrepancy reports, bills of lading, and electronic databases.

3. Department of Homeland Security, U.S. Citizenship and Immigration Services (N1-566-12-1, 2 items, 2 temporary items). Master files of an electronic information system used to track genealogical requests for searches and copies of documents.

4. Department of Homeland Security, Transportation Security Administration (N1-560-11-7, 3 items, 3 temporary items). Records relating to the sensitive security information program, including procedures, guidance, correspondence, tracking and management reports, determination case files, memos, and forms.

5. Department of Justice, Criminal Division (DAA-0060-2011-0010, 1 item, 1 temporary items). Master files of an electronic information system used to track correspondence and administrative material.

6. Department of Justice, Justice Management Division (DAA-0060-2011-0002, 2 items, 2 temporary items). Master files and outputs of an electronic information system used to report on performance metrics.

7. Department of Justice, Office of Community Oriented Policing Services (DAA-0060-2011-0004, 1 item, 1 temporary item). Master files of an electronic information system used to track financial reports for federal grants.

8. Department of Transportation, Federal Railroad Administration (N1-399-08-11, 4 items, 3 temporary items). Inputs and outputs of an electronic information system containing source data and data exports created for specific requests on activities and events related to the rail network. Proposed for permanent retention are master files containing geographic information on the railroad network and mileposts.

9. Department of the Treasury, Internal Revenue Service (N1-58-11-3, 3 items, 3 temporary items). Master files, audit data, and documentation for an electronic information system used to control and track bank adjustment inventories.

10. Social Security Administration, Office of Earnings, Enumeration, and Administrative Systems (N1-47-09-2, 2 items, 1 temporary item). Master files of an electronic information system used to facilitate and manage the application and assignment of social security numbers. Proposed for permanent retention is a system output that includes biographical data on all social security card holders.

Dated: March 29, 2012.
Paul M. Wester, Jr.,
Chief Records Officer for the U.S. Government.

[FR Doc. 2012-8174 Filed 4-4-12; 8:45 am]

BILLING CODE 7515-01-P